NATIONAL AERONAUTICS AND SPACE ADMINISTRATION

[Notice (02-064)]

NASA Advisory Council, Biological and Physical Research Advisory Committee Meeting

AGENCY: National Aeronautics and Space Administration.

ACTION: Notice of meeting.

SUMMARY: In accordance with the Federal Advisory Committee Act,Public Law 92-463, as amended, the National Aeronautics and Space Administration announces a meeting of the NASA Advisory Council,Biological and Physical Research Advisory Committee.

DATES: Thursday, June 20, 2002, 10 a.m. to 6 p.m.; and Friday, June 21, 2002, 8 a.m. to 12 Noon.

ADDRESSES: National Aeronautics and Space Administration,Conference Room MIC-6, 300 E Street SW., Washington, DC 20546.

FOR FURTHER INFORMATION CONTACT: Dr. Bradley Carpenter,Code UG, National Aeronautics and Space Administration, Washington,DC 20546, 202/358-0826.

SUPPLEMENTARY INFORMATION: The meeting will be open to the public up to the seating capacity of the room. The agenda for the meeting is as follows:

—Review Recommendations

—Program Overview

—Division Reports

—Status of International Space Station

—Research Prioritization Task Force

—Education and Outreach Policy

—Review of Committee Findings and Recommendations

It is imperative that the meeting be held on this date to accommodate the scheduling priorities of the key participants. Visitors will be requested to sign a visitor's register.

Dated: May 21, 2002.
Sylvia K. Kraemer,
Advisory Committee Management Officer, National Aeronautics and Space Administration.

[FR Doc. 02-13297 Filed 5-28-02; 8:45 am]

BILLING CODE 7510-01-P